FEDERAL COMMUNICATIONS COMMISSION

47 CFR Part 61

Tariffs

CFR Correction

In Title 47 of the Code of Federal Regulations, Parts 40 to 69, revised as of October 1, 2010, on page 189, in § 61.3, redesignate paragraphs (aa) through (zz) as paragraphs (bb) through (aaa), and reinstate old paragraph (z) as paragraph (aa) to read as follows:

§ 61.3 Definitions.

* * * * *

(aa) Other participating carrier. A carrier subject to the Act that publishes a tariff containing rates and regulations applicable to the portion or through service it furnishes in conjunction with another subject carrier.

* * * * *

[FR Doc. 2011-25201 Filed 9-28-11; 8:45 am]

BILLING CODE 1505-01-D